DEPARTMENT OF HEALTH AND HUMAN SERVICES

Administration for Community Living

Announcement of the Intent To Award Single-Source Cooperative Agreement to the University of Southern California, Department of Family Medicine and Geriatrics, National Center on Elder Abuse

AGENCY: Administration for Community Living, HHS.

ACTION: Notice.

SUMMARY: The Administration for Community Living (ACL) announces the intent to award a supplemental single-source cooperative agreement in the amount of $275,000 to the University of Southern (U.S.C.) California, Department of Family Medicine and Geriatrics, National Center on Elder Abuse (NCEA) to support and stimulate the expansion of work already underway by U.S.C./NCEA proving public awareness and improving the national response to elder abuse, neglect and exploitation to all.

DATES: The award will be issued for the project period to run concurrently with the existing grantee's budget period of September 30, 2015 through September 29, 2016.

FOR FURTHER INFORMATION CONTACT: Aiesha Gurley, Office of Elder Justice and Adult Protective Services, Administration on Aging, Administration for Community Living, 330 C Street SW., Washington, DC 20024. Telephone: 202-795-7358; Email: aiesha.gurley@acl.hhs.gov.

SUPPLEMENTARY INFORMATION: The ACL National Center on Elder Abuse serves as a national resource center dedicated to the prevention of elder mistreatment. The NCEA disseminates elder abuse information to professionals and the public, and provides technical assistance and training to states and to community-based organizations. NCEA is unique because it operates as a multi-disciplinary consortium of equal partners with expertise in elder abuse, neglect, and exploitation. They serve as a national clearinghouse of information for elder rights advocates, law enforcement, legal professionals, public policy leaders, researchers, and others working to ensure that all older Americans will live with dignity, integrity, independence, and without abuse, neglect, and exploitation.

Additional funds are needed to leverage the resource center's funding for elder abuse awareness through social media and creating state leadership networks through targeted campaigns that will assist states in spreading awareness. This supplementary funding would be provided for the approved period.

This program is authorized under Title II of the Older Americans Act Section 202(d)(2) which establishes the requirements for the National Center for Elder Abuse.

Dated: April 19, 2016.
Kathy Greenlee,
Administrator and Assistant Secretary for Aging.

[FR Doc. 2016-09560 Filed 4-22-16; 8:45 am]

BILLING CODE 4154-01-P